DEPARTMENT OF LABOR

Employment and Training Administration

[TA-W-52,862]

Paxar Americas, Inc., Formerly Paxar Corporation, Monarch Marking Systems, Fabric Label Group, Lenoir, NC; Amended Certification Regarding Eligibility To Apply for Worker Adjustment Assistance

In accordance with section 223 of the Trade Act of 1974 (19 U.S.C. 2273) the Department of Labor issued a Certification of Eligibility to Apply for Worker Adjustment Assistance on September 23, 2003, applicable to workers of Paxar Corporation, Fabric Label Group, Lenoir, North Carolina. The notice was published in theFederal Register on November 28, 2003 (68 FR 66880).

At the request of the State agency, the Department reviewed the certification for workers of the subject firm. The workers are engaged in the production of printed labels.

New information shows that some workers separated from employment at the subject firm had their wages reported under a separate unemployment insurance (UI) tax account for Paxar Americas, Inc., Monarch Marking Systems, Inc.

Accordingly, the Department is amending the certification to properly reflect this matter.

The intent of the Department's certification is to include all workers of Paxar Americas, Inc., formerly Paxar Corporation, Monarch Marking Systems, Inc., Fabric Label Group, Lenoir, North Carolina, who were adversely affected by a shift in production to Mexico, Honduras and the Dominican Republic.

The amended notice applicable to TA-W-52,862 is hereby issued as follows:

All workers of Paxar Americas, Inc., formerly Paxar Corporation, Monarch Marking Systems, Inc., Fabric Label Group, Lenoir, North Carolina, who became totally or partially separated from employment on or after August 26, 2002, through September 23, 2005, are eligible to apply for adjustment assistance under section 223 of the Trade Act of 1974.

Signed in Washington, DC, this 29th day of January, 2004.
Linda G. Poole,
Certifying Officer, Division of Trade Adjustment Assistance.

[FR Doc. E4-246 Filed 02-10-04; 8:45 am]

BILLING CODE 4510-13-P